DEPARTMENT OF TRANSPORTATION

Research and Special Programs Administration

[Docket No. RSPA-03-14793; Notice No. 03-9]

Safety Advisory: Improper Marking of Compressed Gas Cylinders

AGENCY: Research and Special Programs Administration (RSPA), DOT.

ACTION: Safety advisory notice.

SUMMARY: This is to notify the public that we (“RSPA”) have obtained information concerning high-pressure compressed gas cylinders that appear to have been requalified improperly by Sooner Cylinder Service, Inc. (“Sooner”), 1032 SE 25th Street, Oklahoma City, OK 73129. Based on our review of Sooner's records, Sooner has marked, certified and returned to service an undetermined number of high-pressure DOT specification and exemption cylinders as having been being properly tested in accordance with the Hazardous Materials Regulations (HMR), when it appears that the cylinders were hydrostatically retested using equipment that was not verified to be accurate as required. In addition, it appears that some cylinders were marked, certified, and returned to service when they may have been required to be removed from service and condemned.

A hydrostatic retest and visual inspection, conducted as prescribed in the HMR, are used to verify the structural integrity of a cylinder. If the hydrostatic retest and visual inspection are not performed in accordance with the HMR, a cylinder with compromised structural integrity may be returned to service when it is required to be condemned. Extensive property damage, serious personal injury, or death may result from rupture of a cylinder. Cylinders that have not been retested in accordance with the HMR may not be charged or filled with compressed gas or other hazardous material and offered for transportation in commerce.

FOR FURTHER INFORMATION CONTACT: Billy C. Hines, Jr., Chief, Southwest Region, Office of Hazardous Materials Enforcement, Research and Special Programs Administration, U.S. Department of Transportation, 2320 La Branch Street, Room 2100, Houston, TX 77004. Telephone: (713) 718-3950, Fax: (713) 718-3952.

SUPPLEMENTARY INFORMATION: The Hazardous Materials Regulations (HMR), 49 CFR parts 171-180, prescribe requirements for the periodic retesting and requalification of cylinders used to transport compressed gases and acetylene. In order to perform hydrostatic retesting of compressed gas cylinders and visual inspections of acetylene cylinders, a person (including a company) must obtain an approval and Requalifier Identification Number (RIN) from RSPA. 49 CFR 180.205(b), 107.805. RSPA issued RIN C762 to Sooner on February 28, 1994, which was renewed on April 8, 1999, authorizing Sooner to requalify high-pressure cylinders and acetylene cylinders.

Based on our investigation, RSPA has concluded that, over the past three years, Sooner has marked, certified and returned to service an undetermined number of high-pressure cylinders as having been properly tested in accordance with the HMR when retesting was performed on test equipment that was not verified to be accurate as required. RSPA also suspects that Sooner may have returned to service cylinders that should have been condemned and the DOT specification or exemption marking removed or obliterated. The high-pressure cylinders in question are stamped with Sooner's RIN C762 in the following pattern:

C 7

M Y

26

M is the month of retest (e.g., 01, 02, etc), and Y is the last two digits of the year of the retest (e.g., 01, 02, 03).

All high-pressure cylinders that have been marked and certified as having been hydrostatically tested by Sooner since August 2000 may pose a safety risk to the public and should not be considered safe for use in hazardous materials service until retested by a DOT-authorized facility. This advisory notice does not include any DOT specification 8 or 8AL acetylene cylinders marked and certified by Sooner during this time period.

Anyone who has a high-pressure cylinder that has been hydrostatically tested by Sooner between August 2000 and July 2003, and has not had the cylinder tested by a DOT-authorized facility since then, should consider the cylinder unsafe and not fill it with a hazardous material unless the cylinder is first properly retested by a DOT-authorized retest facility. Cylinders described in this safety advisory that are filled with an atmospheric gas should be vented or otherwise safely discharged, and then taken to a DOT-authorized cylinder retest facility for proper retest to determine compliance with the HMR and their suitability for continuing service. Cylinders described in this safety advisory that are filled with a material other than an atmospheric gas should not be vented, but instead should be safely discharged, and then taken to a DOT-authorized cylinder retest facility for proper retest to determine compliance with the HMR and their suitability for continuing service. Mr. Billy C. Hines, Jr., Chief, Southwest Region, can provide a list of authorized retest facilities in your area, or you may obtain the list at the following Web site: http://hazmat.dot.gov. Under no circumstance should a cylinder described in this safety advisory be filled, refilled or used for its intended purpose until it is reinspected and retested by a DOT-authorized retest facility.

RSPA requests that any person possessing a cylinder described in this safety advisory telephone or provide a facsimile to Mr. Hines with the following information for each cylinder: (1) The cylinder manufacturer's name, (2) the serial number of the cylinder, (3) the DOT specification or exemption information for the cylinder, and (4) the month and year of the last marked retest by Sooner Cylinder Service, Inc.

Issued in Washington, DC on July 24, 2003.
Robert A. McGuire,
Associate Administrator for Hazardous Materials Safety.

[FR Doc. 03-19371 Filed 7-29-03; 8:45 am]

BILLING CODE 4910-60-P